DEPARTMENT OF ENERGY

Federal Energy Regulatory Commission

[Docket No. CP10-480-000]

Central New York Oil and Gas Company, LLC; Notice Extending Comment Period

On May 27, 2011, the Federal Energy Regulatory Commission (FERC or Commission) issued its environmental assessment (EA) for Central New York Oil and Gas Company, LLC's MARC I Hub Line Project proposed in the above-referenced docket. The EA was placed in the public record and was available via the FERC's eLibrary on that date. However, the Commission experienced technical problems reproducing the copies of the EA that were to be mailed to interested stakeholders. As a result, the compact disk copies of the EA were not mailed until June 7, 2011. Therefore, the deadline for filing comments on the EA has been extended for two weeks, and will end on July 11, 2011.

Dated: June 10, 2011.
Kimberly D. Bose,
Secretary.

[FR Doc. 2011-14962 Filed 6-15-11; 8:45 am]

BILLING CODE 6717-01-P